DEPARTMENT OF THE INTERIOR

Fish and Wildlife Service

[FWS-R2-ES-2012-N182; 20124-1113-0000-C2]

Final Recovery Plan, First Revision; Mexican Spotted Owl

AGENCY: Fish and Wildlife Service, Interior.

ACTION: Notice of document availability.

SUMMARY: We, the Fish and Wildlife Service, announce the availability of our final recovery plan, first revision, for the Mexican Spotted Owl, which is listed as threatened under the Endangered Species Act of 1973, as amended (Act). This species occurs in the States of Arizona, Colorado, New Mexico, Texas, and Utah, and south through the Sierra Madre Occidental and Sierra Madre Oriental in Mexico. The recovery plan includes specific recovery objectives and criteria to be met in order to enable us to remove this species from the list of endangered and threatened wildlife and plants.

ADDRESSES: If you wish to view the recovery plan, you may obtain a copy by any one of the following methods:

Internet: http://endangered.fws.gov/recovery/index.html#plans (type “Mexican spotted owl” in the document title search field);

U.S. mail: Arizona Ecological Services Office, U.S. Fish and Wildlife Service, 2321 West Royal Palm Road, Phoenix, AZ 85021-4951; or Telephone: 602-242-0210.

FOR FURTHER INFORMATION CONTACT: Steve Spangle, Field Supervisor, at the above address and phone number, or by email at incomingazcorr@fws.gov.

SUPPLEMENTARY INFORMATION: We announce the availability of our final recovery plan, first revision, for the Mexican Spotted Owl (Strix occidentalis lucida). The revised recovery plan was prepared by a team of experts from both the United States and Mexico; team members were appointed by the Director of the Fish and Wildlife Service's Southwest Region. We made the draft plan available via a Federal Register notice published on June 24, 2011 (76 FR 37141); this notice opened a comment period that ran through August 23, 2011, and requested comments from local, State, and Federal agencies; Tribes; and the public. We considered information we received from these entities, as well as that obtained from three independent peer reviewers, in finalizing this revised recovery plan.

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species' History

We listed the Mexican spotted owl as a threatened species under the Act on March 16, 1993 (58 FR 14248). We designated critical habitat on August 31, 2004 (69 FR 53182). We originally completed a recovery plan for the Mexican spotted owl on October 16, 1995. However, updates on status information and experience in implementing the original recovery plan led to our determination that revision was warranted.

The Mexican spotted owl nests and roosts in forested areas exhibiting multilayered, unevenly aged tree structure, and in steep, rocky canyonlands. Forested habitats used by the owl vary throughout the species' range and by activity (nesting, roosting, foraging, dispersal/migration). However, the forest types believed most important to Mexican spotted owls are mixed conifer, pine-oak, and riparian habitats.

At the time of the species' listing, chief threats to the owl's population in the United States were commercial-based timber harvest; however, at this time, the risk of stand-replacing wildfire has come into prominence. The revised recovery plan recommends protection of currently occupied home ranges, plus development of replacement nesting/roosting habitat over time. The plan recognizes the need to manage these forest landscapes to minimize the effects of large, stand-replacing wildfires, believed to be the greatest current threat to the species.

Recovery Plan Goals

The objective of an agency recovery plan is to provide a framework for the recovery of a species so that protection under the Act is no longer necessary. A recovery plan includes scientific information about the species and provides criteria and actions necessary for us to be able to remove it from the Federal List of Endangered and Threatened Wildlife and Plants (List). Recovery plans help guide our recovery efforts by describing actions we consider necessary for the species' conservation, and by estimating time and costs for implementing needed recovery measures. To achieve its goals, this recovery plan identifies the following objectives:

• Support the population of the Mexican spotted owl for the foreseeable future.

• Maintain habitat conditions necessary to provide roosting and nesting habitat for the Mexican spotted owl through time.

The revised recovery plan contains recovery criteria based on maintaining and/or increasing population numbers and habitat quality and quantity. The revised recovery plan focuses on protecting populations, managing threats, maintaining habitat, monitoring progress, and building partnerships to facilitate recovery.

As the subspecies meets recovery criteria, we will review the subspecies' status and consider removal from the List.

Authority

We developed our recovery plan under the authority of section 4(f) of the Act, 16 U.S.C. 1533(f). We publish this notice under section 4(f) Endangered Species Act of 1973, as amended (16 U.S.C. 1531 et seq.).

Dated: September 5, 2012.
Joy E. Nicholopoulos,
Acting Regional Director, Southwest Region, U.S. Fish and Wildlife Service.

[FR Doc. 2012-30348 Filed 12-14-12; 8:45 am]

BILLING CODE 4310-55-P